DEPARTMENT OF THE INTERIOR

National Park Service

[NPS-SER-CAHA-1110-6213; 2310-0003-422]

Record of Decision

AGENCY: National Park Service, Interior.

ACTION: Notice of Availability of the Record of Decision on the Final Environmental Impact Statement/Cape Hatteras National Seashore Off-Road Vehicle Management Plan.

SUMMARY: Pursuant to the National Environmental Policy Act of 1969, 42 U.S.C. 4332(2)(C), and the Council on Environmental Quality regulations (40 CFR Parts 1500-1508), the Department of the Interior, National Park Service (NPS) has prepared and approved a Record of Decision (ROD) for the Final Environmental Impact Statement (Final EIS) for the Cape Hatteras National Seashore (Seashore) Off-Road Vehicle (ORV) Management Plan.

The ROD documents the decision by the NPS to implement Alternative F: NPS Preferred Alternative (the “selected action”).

The selected action is necessary to regulate ORV use at the Seashore in a manner that is consistent with applicable law, and appropriately addresses resource protection (including protected, threatened, or endangered species), potential conflicts among the various Seashore users, and visitor safety. The selected action provides the basis for a proposed special regulation for ORV use at the Seashore. Section 4.10(b) of the NPS regulations in Title 36 of the Code of Federal Regulations (CFR), which implements Executive Orders 11644 and 11989, prohibits ORV use except on routes and areas designated in a special regulation. The ORV plan and special regulation are necessary to provide continued visitor access through the use of ORVs. The intended effects or objectives of this action are to:

• Minimize impacts from ORV use to soils and topographic features, for example, dunes, ocean beach, wetlands, tidal flats, and other features;

• Provide protection for threatened, endangered, and other protected species (e.g., state-listed species) and their habitats, and minimize impacts related to ORV and other uses as required by laws and policies, such as the Endangered Species Act, the Migratory Bird Treaty Act, and NPS laws and management policies;

• Minimize impacts to native plant species from ORV use;

• Minimize impacts to wildlife species and their habitats from ORV use;

• Protect cultural resources such as shipwrecks, archeological sites, and cultural landscapes from impacts related to ORV use;

• Ensure that ORV operators are informed about the rules and regulations regarding ORV use at the Seashore;

• Manage ORV use to allow for a variety of visitor use experiences;

• Minimize conflicts between ORV use and other uses;

• Ensure that ORV management promotes the safety of all visitors;

• Identify operational needs and costs to fully implement an ORV management plan;

• Identify potential sources of funding necessary to implement an ORV management plan;

• Provide consistent guidelines, according to site conditions, for ORV routes, ramps, and signage;

• Identify criteria to designate ORV use areas and routes;

• Establish ORV management practices and procedures that have the ability to adapt in response to changes in the Seashore's dynamic physical and biological environment;

• Establish a civic engagement component for ORV management;

• Establish procedures for prompt and efficient public notification of beach access status, including any temporary ORV use restrictions, for such things as ramp maintenance, resource and public safety closures, storm events, etc;

• Build stewardship through public awareness and understanding of NPS resource management and visitor use policies and responsibilities as they pertain to the Seashore and ORV management.

FOR FURTHER INFORMATION CONTACT: Mike Murray, Superintendent, Cape Hatteras National Seashore, 1401 National Park Drive, Manteo, NC 27954. Telephone: (252) 473-2111 ext. 148.

SUPPLEMENTARY INFORMATION: Under the selected action, the NPS will propose a special regulation based on the ROD that provides a balanced distribution of beach miles designated as ORV routes and vehicle-free areas, while providing for the protection of park resources. Driving will be prohibited off-road in the Seashore except on designated routes, and an ORV permit, with a short educational component, will be required for ORV operators. To operate off-road, ORVs must meet required vehicle characteristics and carry required equipment. The NPS will implement measures for pedestrian safety. When carrying capacity is reached or exceeded on an ORV route, it will be temporarily closed to additional vehicles. To support access to both vehicle-free areas and designated ORV routes, the NPS will construct new parking areas and pedestrian access trails, new or relocated ORV ramps, and improvements and additions to the interdunal road system. The Superintendent may issue a special use permit in certain limited circumstances for ORV use in vehicle-free areas. Vehicles operated off-road under the terms of a commercial fishing permit or commercial use authorization (CUA) issued by the superintendent would not require a separate ORV permit.

The NPS will manage for protected species using the measures identified in the Final EIS. These include pre-nesting closures and standard buffers for shorebirds and night driving restrictions during the sea turtle nesting season. The NPS will employ periodic review and an adaptive management strategy, using monitoring and the systematic evaluation of results to determine if adjustments in management are necessary to reach the desired future condition for the threatened, endangered, state-listed, and special status species as described in the FEIS.

The ROD briefly discusses the selected action, five other alternatives considered, the basis for the decision, and measures to minimize impacts and address public concerns. The requisite no-action “wait period” before approval of the ROD was initiated November 19, 2010 with the U.S. Environmental Protection Agency's Federal Register notification of the filing of the Final EIS. As soon as practicable after the publication of the Notice of Availability and Summary of the ROD in the Federal Register, the Seashore will publish in the Federal Register for public comment a proposed special regulation to designate ORV routes and regulate the use of ORVs in the Seashore. The ROD is not the final agency action for those elements of the plan that require promulgation of a regulation to be effective; promulgation of the regulation will constitute the final agency action for such elements of the plan. Moreover, the Seashore will not begin to implement the selected action until after promulgation of the final special regulation. Once the final special regulation is in effect, the Seashore will implement the selected action, as described in the preferred alternative (alternative F) presented in the final plan/EIS and in the ROD.

Interested parties desiring to review the ROD may access it on the NPS Planning, Environment and Public Comment Web site at http://parkplanning.nps.gov/caha or may obtain a copy by contacting Mike Murray, Superintendent, Cape Hatteras National Seashore, 1401 National Park Drive, Manteo, NC 27954. Telephone: (252) 473-2111 ext. 148.

Authority: The authority for publishing this notice is 40 CFR 1506.6.

The responsible official for this ROD is the Regional Director, Southeast Region, National Park Service, 100 Alabama Street, SW., 1924 Building, Atlanta, Georgia 30303.

Gordon Wissinger,
Acting Regional Director, Southeast Region, National Park Service.

[FR Doc. 2010-32549 Filed 12-27-10; 8:45 am]

BILLING CODE 4310-X6-P